DEPARTMENT OF HEALTH AND HUMAN SERVICES

Centers for Disease Control and Prevention

Technical Assistance to Rwandan Healthy Schools Initiative

Announcement Type: New.

Funding Opportunity Number: CDC-RFA-AA105.

Catalog of Federal Domestic Assistance Number: 93.067.

Key Dates: Application Deadline: September 12, 2005.

I. Funding Opportunity Description

Authority: This program is authorized under Sections 301(a) and 307 of the Public Health Service Act [42 U.S.C. 241 and 242l], as amended, and under Public Law 108-25 (United States Leadership Against HIV/AIDS, Tuberculosis and Malaria Act of 2003) [U.S.C. 7601].

Background: Data from the 2000 Behavioral Surveillance Survey in Rwanda suggests that in-school youth are more likely to engage in early sexual activity than out-of-school youth, which makes secondary schools a natural and important focus for age-appropriate prevention and confidential, voluntary counseling and testing (CT) activities. In addition, behavior change messages or CT services have not yet systematically reached secondary-school students in Rwanda; while science lessons at the secondary level in Rwanda generally cover HIV/AIDS-related subject matter, content and presentation vary from school to school.

At present, confidential CT services in Rwanda are restricted primarily to health facilities, with limited availability in non-clinical settings. Schools have great potential to function as community resource centers for HIV/AIDS, particularly in those cases where, for multiple reasons, individuals are not presenting themselves for HIV testing at hospitals or health centers. When it has been used, mobile, confidential CT has proven to be a very effective approach in Rwanda; single-day testing campaigns have yielded as many as 12,000 persons tested.

With assistance from the World Bank, the United Kingdom, Department for International Development (DFID), the United Nations Children's Fund (UNICEF) and other donors, the Rwandan Ministry of Education (MINEDUC) has recently completed the development of primary- and secondary-school curricula that integrate HIV/AIDS and life-skills lessons at each level of instruction. The Rwandan National Curriculum Development Center has approved the curricula and incorporated them into the training modules at Rwanda's teacher training colleges (TTC). The new textbooks will be distributed to schools in the near future. This is a valuable first step in ensuring that all students in Rwanda have an adequate knowledge base appropriate to their stage of physical, intellectual, and emotional development, with respect to HIV/AIDS prevention.

Purpose: As part of the President's Emergency Plan for AIDS Relief, HHS announces the availability of Fiscal Year (FY) 2005 funds for technical assistance to Rwanda's MINEDUC in launching a pilot initiative to develop secondary schools into community resources for confidential CT and the prevention of HIV/AIDS. The initiative, tentatively named the Healthy Schools Initiative, will take in two main interventions: (1) School-based, community, confidential CT offered via mobile testing units to secondary-school students, their parents and teachers, and surrounding communities; and (2) an innovative, age-appropriate prevention/behavior change campaign to focus on abstinence and parent-child communication. The grantee, to be selected on a competitive basis, will be responsible for collaborating closely with MINEDUC, HHS, the U.S. Agency for International Development (USAID), and other local agencies to ensure the successful planning, coordination, implementation and monitoring of the initiative.

Intervention 1: Counseling and Testing

Under the Healthy Schools Initiative, HHS will introduce free, confidential mobile HIV testing to secondary schools through a culturally appropriate public campaign to target teachers, upper level secondary-school students, their families and community members. Building on the enthusiasm expressed by the Rwandan Minister of Education about a sector-wide confidential CT campaign, the mobile testing intervention will roll out in a top-down fashion, by starting with public HIV tests for the Minister and other MINEDUC officials and then branching out to secondary schools through Free CT days. Free CT days will involve dispatching a mobile CT unit to secondary schools to provide free, confidential testing for teachers, students, their families and community members. Prior to offering confidential CT at secondary schools, community preparation campaigns in school catchment areas will foster acceptance of community- and youth-centered confidential CT, and for people living with HIV/AIDS (PLWHA).

Both a “prevention for negatives” component and linkages to the national care and treatment program for HIV infected persons will facilitate appropriate follow-up for all individuals tested through the initiative. Age-appropriate information, Education, and Communication (IEC) materials that emphasize behavior change will go out to all individuals who test negative in an effort to encourage abstinence and faithfulness as the best means of prevention. The program will forge linkages with the Rwandan national care and treatment program to ensure access to care and treatment for individuals who test positive. Specifically, local referrals to clinics providing care and treatment to HIV infected individuals, and anti-retroviral therapy (ART) to those who are eligible, will be provided to any individual who tests positive for HIV at any testing site. In addition, educational materials on HIV, ARTs, and strategies for reducing transmission of HIV will be provided to individuals testing positive.

Given that Rwandan law and government policy currently require parental consent for the testing of youth under the age of 18, it is crucial that the program develop appropriate linkages between the initiative's prevention and confidential CT interventions to engender parental support for youth CT. Such linkages might include the integration of a module on confidential CT into the parent-child communication curriculum, extracurricular sensitization activities with parents about the importance of knowing one's serostatus at any age, or national advocacy activities coordinated with MINEDUC's HIV/AIDS unit.

Intervention 2: Prevention

As part of the President's Emergency Plan, HHS seeks to build on MINEDUC's achievements in developing primary and secondary HIV curricula by introducing a culturally and age-appropriate competence-based behavior-change curriculum to emphasize abstinence and parent-child communication about HIV/AIDS. The curriculum will be founded on the conviction that the key to behavior change lies in: (1) The delivery of innovative, age- and culturally appropriate messages about HIV/AIDS behavior change; (2) the continual reinforcement of these messages by teachers, peers and parents to develop a new set of social norms; and (3) the development and regular application of core competencies, in-school and out-of-school, through activities to emphasize accountability to self, peers, parents and teachers. The program will supplement a behavior change curriculum, focusing on parent-child communication, with extra-curricular activities that aim to build a culture of solidarity among students with respect to HIV prevention and behavior change. The program will design, plan and execute extra-curricular activities in collaboration with anti-AIDS clubs,¹ and will maximize student involvement through peer education, school-wide competitions and other activities with broad appeal.

¹ Since 1998, anti-AIDS clubs have been established in all secondary schools and institutions of higher learning in Rwanda, but many remain inactive because of lack of materials and proper guidance (official MINEDUC Web site: www.mineduc.gov.rw).

Key actors: The MINEDUC HIV/AIDS Unit is responsible for coordinating all HIV/AIDS-related interventions in the education sector in Rwanda, whether executed by non-governmental organizations (NGOs), international organizations or other partners, in accordance with national HIV/AIDS policy. The Unit is also responsible for supervising and monitoring these interventions. The grantee will work with the HIV/AIDS Unit to plan, coordinate, and monitor the Initiative.

HHS will be directly implementing the confidential CT component of the Healthy Schools Initiative: purchasing a mobile CT unit, test kits and client resource materials; providing fuel and per diem for mobile, confidential CT; and hiring and housing local confidential CT project staff within the HHS-Rwanda office. The grantee's involvement with the CT component will focus primarily on integrating awareness of confidential CT into the behavior-change curriculum through the development of a confidential CT module to target students and parents. The grantee will also work with HHS and USAID to harmonize deployment of the prevention and confidential CT components.

The Treatment and Research AIDS Center (TRAC) is the agency responsible for ensuring the quality of HIV CT services throughout Rwanda. The grantee will work with HHS and TRAC's voluntary counseling and testing (VCT) unit to organize and execute the mobile CT intervention in a manner that complies fully with Rwandan national norms and standards. HHS and the MINEDUC will consult with TRAC's care and treatment unit on the creation of linkages between the CT component and the Rwandan national care and treatment program, as well as on the development of reference materials for individuals who test positive.

Secondary-school teacher-trainers and peer educators will be key actors in the execution and delivery of the prevention and CT interventions. They will be chiefly responsible for communicating and reinforcing the culturally and age-appropriate behavior change messages; assisting students and parents in building core competencies (independent decision-making, abstinence negotiation, effective communication); and soliciting involvement of students and parents in extra-curricular activities relating to prevention and CT. The technical assistance provider will orient and train teacher-trainers in local languages in the delivery of the behavior change curriculum and train peer educators from anti-AIDS clubs to develop their skills as school and community advocates for behavior change and CT.

Geographic coverage: In Year 1, the initiative will target secondary schools in two provinces, Kigali City and Gitarama. In collaboration with TRAC, HHS and the MINEDUC HIV/AIDS unit, the grantee will determine how many and which schools/districts need to be targeted in each province to meet needs and achieve targets. If Year 1 activities are successful during the annual review of country operational plans for the President's Emergency Plan managed by the Office of the Global AIDS Coordinator, based on the achievement of milestones developed jointly by HHS, MINEDUC and the grantee, the initiative will extend to additional provinces over the course of four years, with the ultimate goal of reaching all provinces by the end of FY2009.

Targets: The CT intervention, expected to require more start-up time than the prevention intervention, will rollout at no fewer than ten secondary schools in Year 1. The program has the following targets for CT:

• Number of individuals trained in providing CT: Five

• Number of individuals who receive CT: 2,750

• Number of service outlets (schools) that provide CT: Ten

The prevention intervention will rollout at no fewer than 30 secondary schools in Year 1. The following targets have been set for prevention:

• Number of individuals reached through culturally and age-appropriate (school/community) outreach HIV/AIDS prevention programs that promote abstinence: 20,250.

• Number of individuals (teacher-trainers, teachers or peer educators) trained to deliver culturally and age-appropriate HIV/AIDS prevention programs that promote abstinence: 1,150.

HHS Measurable outcomes of the program will be in alignment with one (or more) of the following performance goal(s) for the National Center for HIV, STD, and TB Prevention (NCHSTP): Reduce the percentage of HIV/AIDS-related risk behaviors among school-aged youth through dissemination of HIV prevention education programs and, by 2010, work with other countries, international organizations, the U.S. Department of State, United States Agency for International Development (USAID), and other partners to achieve the United Nations General Assembly Special Session on HIV/AIDS goal of reducing prevalence among persons 15 to 24 years of age.

Background: President Bush's Emergency Plan for AIDS Relief has called for immediate, comprehensive and evidence-based action to turn the tide of global HIV/AIDS. The initiative aims to treat more than two million HIV-infected people with effective combination anti-retroviral therapy by 2008; care for ten million HIV-infected and affected persons, including those orphaned by HIV/AIDS, by 2008; and prevent seven million infections by 2010, with a focus on 15 priority countries, including 12 in sub-Saharan Africa. The five-year strategy for the Emergency Plan is available at the following Internet address: http://www.state.gov/s/gac/rl/or/c11652.htm.

Over the same time period, as part of a collective national response, the Emergency Plan goals specific to Rwanda are to treat at least 50,000 HIV-infected individuals and care for 250,000 HIV-affected individuals, including orphans.

This announcement is only for non-research activities supported by HHS. If applicant proposes research, we will not review the application. For the definition of research, please see the HHS/CDC web site at the following Internet address: http://www.cdc.gov/od/ads/opspoll1.htm.

Activities: The recipient of these funds is responsible for activities in multiple program areas designed to target underserved populations in Rwanda. Either the awardee will implement activities directly or will implement them through its subgrantees and/or subcontractors; the awardee will retain overall financial and programmatic management under the oversight of HHS/CDC and the strategic direction of the Office of the U.S. Global AIDS Coordinator. The awardee must show a measurable progressive reinforcement of the capacity of indigenous organizations and local communities to respond to the national HIV epidemic, as well as progress towards the sustainability of activities.

Applicants should describe activities in detail as part of a four-year action plan (U.S. Government Fiscal Years 2005-2008 inclusive) that reflects the policies and goals outlined in the five-year strategy for the President's Emergency Plan.

The awardee will produce an annual operational plan in the context of this four-year plan, which the U.S. Government Emergency Plan team on the ground in Rwanda will review as part of the annual Emergency Plan for AIDS Relief Country Operational Plan review and approval process managed by the Office of the U.S. Global AIDS Coordinator. The awardee may work on some of the activities listed below in the first year and in subsequent years, and then progressively add others from the list to achieve all of the Emergency Plan performance goals, as cited in the previous section. HHS/CDC, under the guidance of the U.S. Global AIDS Coordinator, will approve funds for activities on an annual basis, based on documented performance toward achieving Emergency Plan goals, as part of the annual Emergency Plan for AIDS Relief Country Operational Plan review and approval process.

Awardee activities for this program are as follows:

1. Work closely with key partners and stakeholders in Rwanda, including the MINEDUC HIV/AIDS unit, TRAC, and HHS, to develop an implementation plan for the pilot phase of the initiative. This will require:

a. Identifying which schools/districts will participate in the CT and prevention interventions.

b. Determining the scope of work of each of the actors (school inspectors, teacher-trainers, teachers, peer educators) involved in the prevention intervention.

c. Determining the scope of work of each of the actors, TRAC, health educators, anti-AIDS clubs, involved in the promotion and execution of the CT intervention.

d. Developing a detailed work plan complete with interventions, milestones and a timeline for achieving prevention and CT targets.

2. Hire a local unit to manage the initiative. This unit will be responsible for the day-to-day implementation and management of CT and prevention activities at secondary schools and will report to the MINEDUC HIV/AIDS unit on a monthly basis.

Counseling and Testing:

1. Develop materials for distribution by health educators during Free CT days:

a. IEC materials promoting behavior change (individuals who test negative).

b. Reference materials on care and treatment options in Rwanda (individuals who test positive).

2. Collaborate with HHS, MINEDUC HIV/AIDS unit and TRAC to develop a mobile CT plan:

a. Develop a community preparation plan for schools and catchment areas.

b. Schedule and plan Free CT days at MINEDUC and ten target schools.

c. Estimate test kits, fuel and staff needed.

d. Identify and train staff needed for community preparation campaign and provide CT.

3. Initiate school- and community-based CT preparation campaign via anti-AIDS clubs and health educators in catchment areas.

Prevention:

1. Design/adapt a competence-based culturally and age-appropriate behavior change curriculum in local languages for secondary-school students that focuses on abstinence and parent-child communication about HIV, including CT.

2. Identify a cohort of teachers to serve as teacher-trainers, responsible for training all teachers at participating schools in the behavior change curriculum.

3. Train teacher-trainers in the delivery of the behavior change curriculum; ensure periodic supervision of:

a. Training for teachers and peer educators.

b. Delivery of curriculum to students and parents.

4. Assist MINEDUC in awarding small grants to anti-AIDS clubs for extra-curricular activities linked to abstinence and behavior change.

In a cooperative agreement, HHS staff is substantially involved in the program activities, above and beyond routine grant monitoring.

HHS-Rwanda will be directly managing and implementing the mobile CT component of the Healthy Schools Initiative. Principal activities to be carried out by HHS-Rwanda include the following:

1. Design and printing of resource materials for CT clients (i.e., IEC pamphlets, care and treatment referral guides, prevention for positives guidance).

2. Hiring and placement of a local mobile CT management unit within the HHS-Rwanda office (this unit will consist of two youth counselor/trainers and one community mobilizer/trainer).

3. Design and execution of two-day community preparation campaigns in local languages in ten communities within Kigali City and Gitarama province (to target school administrators and teachers, local government officials and community leaders).

4. Recruitment and training of six volunteer community mobilizers and ten volunteer youth counselors.

5. Procurement of a mobile CT vehicle, test kits, and CT equipment and supplies.

6. Implementation of a pilot mobile CT campaign to target teachers, upper secondary-school students and community members in ten communities within Kigali City and Gitarama province (provision of counseling and testing services to at least 5,000 individuals).

The grantee's involvement with the CT component will focus primarily on integrating awareness of CT into the culturally and age-appropriate behavior change curriculum through the development of a CT module targeting students and parents. The grantee will also work with HHS to harmonize deployment of the prevention and CT components.

Administration: Comply with all HHS management requirements for meeting participation and progress and financial reporting for this cooperative agreement. (See HHS Activities and Reporting sections below for details.) Comply with all policy directives established by the Office of the U.S. Global AIDS Coordinator.

In a cooperative agreement, HHS staff is substantially involved in the program activities, above and beyond routine grant monitoring.

HHS Activities for this program are as follows:

1. Organize an orientation meeting with the grantee to brief them on applicable U.S. Government, HHS, and Emergency Plan expectations, regulations and key management requirements, as well as report formats and contents. The orientation could include meetings with staff from HHS agencies and the Office of the U.S. Global AIDS Coordinator.

2. Review and approve the process used by the grantee to select key personnel and/or post-award subcontractors and/or subgrantees to be involved in the activities performed under this agreement, as part of the Emergency Plan for AIDS Relief Country Operational Plan review and approval process, managed by the Office of the U.S. Global AIDS Coordinator.

3. Review and approve grantee's annual work plan and detailed budget, as part of the Emergency Plan for AIDS Relief Country Operational Plan review and approval process, managed by the Office of the U.S. Global AIDS Coordinator.

4. Review and approve grantee's monitoring and evaluation plan, including for compliance with the strategic information guidance established by the Office of the U.S. Global AIDS Coordinator.

5. Meet on a monthly basis with grantee to assess monthly expenditures in relation to approved work plan and modify plans as necessary.

6. Meet on a quarterly basis with grantee to assess quarterly technical and financial progress reports and modify plans as necessary.

7. Meet on an annual basis with grantee to review annual progress report for each U.S. Government Fiscal Year, and to review annual work plans and budgets for subsequent year, as part of the Emergency Plan for AIDS Relief review and approval process for Country Operational Plans, managed by the Office of the U.S. Global AIDS Coordinator.

8. Provide technical assistance, as mutually agreed upon, and revise annually during validation of the first and subsequent annual work plans. This could include expert technical assistance and targeted training activities in specialized areas, such as strategic information, project management, confidential counseling and testing, palliative care, treatment literacy, and adult learning techniques.

9. Provide in-country administrative support to help grantee meet U.S. Government financial and reporting requirements.

Please note: Either HHS staff or staff from organizations that have successfully competed for funding under a separate HHS contract, cooperative agreement or grant will provide technical assistance and training.

II. Award Information

Type of Award: Cooperative Agreement. HHS involvement in this program is listed in the Activities Section above.

Fiscal Year Funds: 2005.

Approximate Total Funding: $600,000 (This amount is an estimate for the first 12-month budget period, and is subject to availability of funds; it is anticipated to be increased progressively throughout the life of the project.)

Approximate Number of Awards: One.

Approximate Average Award: $600,000 (This amount is for the first 12-month budget period, and includes direct costs.)

Floor of Award Range: $600,000.

Ceiling of Award Range: $600,000 (This ceiling is for the first 12-month budget period.)

Anticipated Award Date: September 15, 2005.

Budget Period Length: 12 months.

Project Period Length: Four years.

Throughout the project period, HHS' commitment to continuation of awards will be conditioned on the availability of funds, evidence of satisfactory progress by the recipient (as documented in required reports), and the determination that continued funding is in the best interest of the Federal Government, through the Emergency Plan for AIDS Relief review and approval process for Country Operational Plans, managed by the Office of the U.S. Global AIDS Coordinator.

III. Eligibility Information

III.1. Eligible applicants

Domestic or foreign public, private nonprofit, and for profit organizations may submit applications, such as:

• Public, non-profit organizations

• Private, non-profit organizations

• For-profit organizations

• Small, minority, women-owned businesses

• Universities

• Colleges

• Research institutions

• Hospitals

• Community-based organizations

• Faith-based organizations

• Federally recognized Indian tribal governments

• Indian tribes

• Indian tribal organizations

• State and local governments or their Bona Fide Agents (this includes the District of Columbia, the Commonwealth of Puerto Rico, the Virgin Islands, the Commonwealth of the Northern Marianna Islands, American Samoa, Guam, the Federated States of Micronesia, the Republic of the Marshall Islands, and the Republic of Palau)

• Political subdivisions of States (in consultation with States)

A Bona Fide Agent is an agency/organization identified by the state as eligible to submit an application under the state eligibility in lieu of a state application. If applying as a bona fide agent of a state or local government, a letter from the state or local government as documentation of the status is required. Place this documentation behind the first page of the application form.

III.2. Cost Sharing or Matching Funds

Matching funds are not required for this program. Although matching funds are not required, preference will go to organizations that can leverage additional funds to contribute to program goals.

III.3. Other

If you request a funding amount greater than the ceiling of the award range, HHS will consider your application non-responsive, and it will not enter into the review process. We will notify you that your application did not meet the submission requirements.

Special Requirements: If your application is incomplete or non-responsive to the special requirements listed in this section, it will not enter into the review process. We will notify you that your application did not meet submission requirements.

• HHS/CDC will consider late applications non-responsive. See section “IV.3. Submission Dates and Times” for more information on deadlines.

• Applications must demonstrate an overall match between the applicant's vision and experience and the program priorities as described.

• Applications must demonstrate that the applicant is capable of building effective and well-defined working relationships with local governmental and non-governmental entities, which will help ensure successful implementation of the proposed activities.

• Eligibility should be documented through an institutional capacity statement and letters of commitment from key project staff (to be included in an appendix to the application).

• Note: Title 2 of the United States Code Section 1611 states that an organization described in Section 501(c)(4) of the Internal Revenue Code that engages in lobbying activities is not eligible to receive Federal funds constituting an award, grant, or loan.

IV. Application and Submission Information

IV.1. Address to Request Application Package

To apply for this funding opportunity use application form PHS 5161-1.

Electronic Submission: HHS strongly encourages you to submit your application electronically by using the forms and instructions posted for this announcement on www.Grants.gov, the official Federal agency wide E-grant Web site. Only applicants who apply on-line are permitted to forego paper copy submission of all application forms.

Paper Submission: Application forms and instructions are available on the HHS/CDC Web site, at the following Internet address: http://www.cdc.gov/od/pgo/forminfo.htm.

If you do not have access to the Internet, or if you have difficulty accessing the forms on-line, contact the HHS/CDC Procurement and Grants Office Technical Information Management Section (PGO-TIM) staff at 770-488-2700. We can mail application forms to you.

IV.2. Content and Form of Submission

Application: You must submit a project narrative with your application forms. You must submit the narrative in the following format:

• Maximum number of pages: 30. If your narrative exceeds the page limit, we will only review the first pages within the page limit. The budget and justification will not count toward the 30-page limit.

• Font size: 12 point unreduced

• Double-spaced

• Paper size: 8.5 by 11 inches

• Page margin size: One inch

• Printed only on one side of page

• Held together only by rubber bands or metal clips; not bound in any other way.

Your narrative should address activities to be conducted over the entire project period, and must include the following items in the order listed:

1. Goal and Objectives

a. Provide a goal statement relating to the project.

b. Enumerate measurable objectives by which to assess the success of your program.

2. Plan of Action/Methods

a. Detail how your organization will achieve the stated goals and objectives.

3. Timeline

a. Provide a timeline for the implementation of program activities.

4. Staff

a. Provide a list of staff that will be responsible for the implementation of this project.

5. Performance Measures and Methods of Evaluation

6. Summary Budget composed by line item, along with a budget justification. (This will not be counted against the stated page limit).

You may include additional information in the application appendices. The appendices will not be counted toward the narrative page limit. This additional information includes the following:

• Curriculum Vitas (CVs)/Resumes

• Organizational Charts

• Job descriptions of proposed key positions to be created for the activity

• Quality-Assurance, Monitoring-and-Evaluation, and Strategic-Information Forms

• Applicant's Corporate Capability Statement

• Letters of Support

• Evidence of Legal Organizational Structure

You must have a Dun and Bradstreet Data Universal Numbering System (DUNS) number to apply for a grant or cooperative agreement from the Federal government. The DUNS number is a nine-digit identification number, which uniquely identifies business entities. Obtaining a DUNS number is easy, and there is no charge. To obtain a DUNS number, access www.dunandbradstreet.com or call 1-866-705-5711.

For more information, see the HHS/CDC web site at: http://www.cdc.gov/od/pgo/funding/grantmain.htm.

If your application form does not have a DUNS number field, please write your DUNS number at the top of the first page of your application, and/or include your DUNS number in your application cover letter.

Additional requirements that could require you to submit additional documentation with your application are listed in section “VI.2. Administrative and National Policy Requirements.”

IV.3. Submission Dates and Times

Application Deadline Date: September 12, 2005.

Explanation of Deadlines: Applications must be received in the CDC Procurement and Grants Office by 4 p.m. Eastern Time on the deadline date.

You may submit you application electronically at www.grants.gov. We consider applications completed on-line through Grants.gov as formally submitted when the applicant organization's Authorizing Official electronically submits the application to www.grants.gov. Electronic applications will be considered as having met the deadline if the applicant organization's Authorizing Official has submitted the application electronically to Grants.gov on or before the deadline date and time.

If you submit your application electronically through Grants.gov (http://www.grants.gov), your application will be electronically time/date stamped, which will serve as receipt of submission. You will receive an e-mail notice of receipt when HHS/CDC receives the application.

If you submit your application by the United States Postal Service or commercial delivery service, you must ensure that the carrier will be able to guarantee delivery by the closing date and time. If HHS/CDC receives the submission after the closing date because: (1) Carrier error, when the carrier accepted the package with a guarantee for delivery by the closing date and time; or (2) significant weather delays or natural disasters, you will have the opportunity to submit documentation of the carrier's guarantee. If the documentation verifies a carrier problem, HHS/CDC will consider the submission as having been received by the deadline.

If you submit a hard copy application, HHS/CDC will not notify you upon receipt of the submission. If you have a question about the receipt of the application, first contact the carrier. If you still have a question, contact the PGO-TIM staff at (770) 488-2700. Before calling, please wait two to three days after the submission deadline. This will allow time for us to process and log submissions.

This announcement is the definitive guide on application content, submission address, and deadline. It supersedes information provided in the application instructions. If your submission does not meet the deadline above, it will not be eligible for review, and we will discard it. We will notify you that you did not meet the submission requirements.

IV.4. Intergovernmental Review of Applications

Executive Order 12372 does not apply to this program.

IV.5. Funding Restrictions

Restrictions, which you must take into account while writing your budget, are as follows:

• Funds may not be used for research.

• Reimbursement of pre-award costs is not allowed.

• Funds may be spent for reasonable program purposes, including personnel, travel, supplies, and services. Equipment may be purchased if deemed necessary to accomplish program objectives; however, prior approval by HHS/CDC Rwanda officials must be requested in writing.

• All requests for funds contained in the budget shall be stated in U.S. dollars. Once an award is made, HHS/CDC will not compensate foreign grantees for currency exchange fluctuations through the issuance of supplemental awards.

• The costs that are generally allowable in grants to domestic organizations are allowable to foreign institutions and international organizations, with the following exception: With the exception of the American University, Beirut and the World Health Organization, Indirect Costs will not be paid (either directly or through sub-award) to organizations located outside the territorial limits of the United States or to international organizations, regardless of their location.

• The applicant may contract with other organizations under this program; however, the applicant must perform a substantial portion of the activities (including program management and operations, and delivery of prevention services for which funds are required).

• You must obtain annual audit of these HHS/CDC funds (program-specific audit) by a U.S.-based audit firm with international branches and current licensure/ authority in-country, and in accordance with International Accounting Standards or equivalent standard(s) approved in writing by HHS/CDC.

• A fiscal Recipient Capability Assessment may be required, prior to or post award, in order to review the applicant's business management and fiscal capabilities regarding the handling of U.S. Federal funds.

• Needle Exchange—No funds appropriated under this Act shall be used to carry out any program of distributing sterile needles or syringes for the hypodermic injection of any illegal drug.

Prostitution and Related Activities: The U.S. Government is opposed to prostitution and related activities, which are inherently harmful and dehumanizing, and contribute to the phenomenon of trafficking in persons.

Any entity that receives, directly or indirectly, U.S. Government funds in connection with this document (“recipient”) cannot use such U.S. Government funds to promote or advocate the legalization or practice of prostitution or sex trafficking. Nothing in the preceding sentence shall be construed to preclude the provision to individuals of palliative care, treatment, or post-exposure pharmaceutical prophylaxis, and necessary pharmaceuticals and commodities, including test kits, condoms, and, when proven effective, microbicides.

A recipient that is otherwise eligible to receive funds in connection with this document to prevent, treat, or monitor HIV/AIDS shall not be required to endorse or utilize a multisectoral approach to combating HIV/AIDS, or to endorse, utilize, or participate in a prevention method or treatment program to which the recipient has a religious or moral objection. Any information provided by recipients about the use of condoms as part of projects or activities that are funded in connection with this document shall be medically accurate and shall include the public health benefits and failure rates of such use.

In addition, any recipient must have a policy explicitly opposing prostitution and sex trafficking. The preceding sentence shall not apply to any “exempt organizations” (defined as the Global Fund to Fight AIDS, Tuberculosis and Malaria, the World Health Organization and its six Regional Offices, the International AIDS Vaccine Initiative or to any United Nations agency).

The following definition applies for purposes of this clause:

• Sex trafficking means the recruitment, harboring, transportation, provision, or obtaining of a person for the purpose of a commercial sex act. 22 U.S.C. 7102(9).

All recipients must insert provisions implementing the applicable parts of this section, “Prostitution and Related Activities,” in all subagreements under this award. These provisions must be express terms and conditions of the subagreement, must acknowledge that compliance with this section, “Prostitution and Related Activities,” is a prerequisite to receipt and expenditure of U.S. government funds in connection with this document, and must acknowledge that any violation of the provisions shall be grounds for unilateral termination of the agreement prior to the end of its term. Recipients must agree that HHS may, at any reasonable time, inspect the documents and materials maintained or prepared by the recipient in the usual course of its operations that relate to the organization's compliance with this section, “Prostitution and Related Activities.”

All prime recipients that receive U.S. Government funds (“prime recipients”) in connection with this document must certify compliance prior to actual receipt of such funds in a written statement that makes reference to this document (e.g., “[Prime recipient's name] certifies compliance with the section, ‘Prostitution and Related Activities.’ ”) addressed to the agency's grants officer. Such certifications by prime recipients are prerequisites to the payment of any U.S. Government funds in connection with this document.

Recipients' compliance with this section, “Prostitution and Related Activities,” is an express term and condition of receiving U.S. Government funds in connection with this document, and any violation of it shall be grounds for unilateral termination by HHS of the agreement with HHS in connection with this document prior to the end of its term. The recipient shall refund to HHS the entire amount furnished in connection with this document in the event HHS determines the recipient has not complied with this section, “Prostitution and Related Activities.”

You may find guidance for completing your budget on the HHS/CDC Web site, at the following Internet address: http://www.cdc.gov/od/pgo/funding/budgetguide.htm.

IV.6. Other Submission Requirements

Application Submission Address:

Electronic Submission: HHS/CDC strongly encourages you to submit applications electronically at www.grants.gov. You will be able to download a copy of the application package from www.grants.gov, complete it off-line, and then upload and submit the application via the Grants.gov Web site. We will not accept e-mail submissions. If you are having technical difficulties in Grants.gov, you may reach them by e-mail at support@grants.gov or by phone at 1-800-518-4726 (1-800-518-GRANTS). The Customer Support Center is open from 7 a.m. to 9 p.m. Eastern Time, Monday through Friday.

HHS/CDC recommends that you submit your application to Grants.gov early enough to resolve any unanticipated difficulties prior to the deadline. You may also submit a back-up paper submission of your application. We must receive any such paper submission in accordance with the requirements for timely submission detailed in Section IV.3. of the grant announcement. You must clearly mark the paper submission: “BACK-UP FOR ELECTRONIC SUBMISSION.”

The paper submission must conform to all requirements for non-electronic submissions. If we receive both electronic and back-up paper submissions by the deadline, we will consider the electronic version the official submission.

We strongly recommended that you submit the grant application by using Microsoft Office products (e.g., Microsoft Word, Microsoft Excel, etc.). If you do not have access to Microsoft Office products, you may submit a PDF file. You may find directions for creating PDF files on the Grants.gov Web site. Use of file formats other than Microsoft Office or PDF could make your file unreadable for our staff; or

Paper Submission: Submit the original and two hard copies of your application by mail or express delivery service to the following address: Technical Information Management-CDC-RFA-AA105, CDC Procurement and Grants Office, U.S. Department of Health and Human Services, 2920 Brandywine Road, Atlanta, GA 30341.

V. Application Review Information

V.1. Criteria

Applicants must provide measures of effectiveness that will demonstrate the accomplishment of the various identified objectives of the cooperative agreement. Measures of effectiveness must relate to the performance goals stated in the “Purpose” section of this announcement. Measures must be objective and quantitative, and must measure the intended outcome. Applicants must submit these measures of effectiveness with the application and they will be an element of evaluation.

Your application will be evaluated against the following criteria:

1. Plan (30 Points)

Does the applicant demonstrate an understanding of the national cultural and political context and the technical and programmatic areas covered by the project? Does the applicant display knowledge of the five-year strategy and goals of the President's Emergency Plan, such that it can build on these to develop a comprehensive, collaborative project to reach underserved populations in Rwanda and meet the goals of the Emergency Plan? Is the plan well-articulated and adequate to carry out the proposed objectives? How realistic and appropriate is the plan, given local conditions and challenges? Does the plan include process and outcome indicators? Does the application include an overall design strategy, including measurable time lines, clear monitoring and evaluation procedures, and specific activities for meeting the proposed objectives?

2. Methods (25 Points)

Are the proposed methods feasible? Do they reflect a spirit of cooperation with other key agencies and organizations in Rwanda? Does the applicant describe a plan to progressively build the capacity of local organizations and of target beneficiaries and communities to respond to the epidemic?

3. Experience (25 Points)

Do the staff members have relevant programmatic experience working in resource-limited settings and the ability to work in local languages? Are staff roles clearly articulated? As described, will the staff be sufficient to accomplish the program goals?

4. Administration and Management (20 points)

Does the applicant provide a clear plan for the administration and management of the proposed activities, to manage the resources of the program, prepare reports, monitor and evaluate activities and audit expenditures?

5. Budget (Reviewed, But Not Scored)

V.2. Review and Selection Process

The HHS/CDC Procurement and Grants Office (PGO) staff will review applications for completeness, and HHS Global AIDS program will review them for responsiveness. Incomplete applications and applications that are non-responsive to the eligibility criteria will not advance through the review process. Applicants will receive notification that their application did not meet submission requirements.

An objective review panel will evaluate complete and responsive applications according to the criteria listed in the “V.1. Criteria” section above. All persons who serve on the panel will be external to the U.S. Government Country Program Office. The panel may include both Federal and non-Federal participants.

In addition, the following factors could affect the funding decision:

While U.S.-based organizations are eligible to apply, we will give preference to existing national/Rwandan organizations. It is possible for one organization to apply as lead grantee with a plan that includes partnering with other organizations, preferably local. Although matching funds are not required, preference will be go to organizations that can leverage additional funds to contribute to program goals.

Applications will be funded in order by score and rank determined by the review panel. HHS/CDC will provide justification for any decision to fund out of rank order.

V.3. Anticipated Announcement and Award Dates

Anticipated award date: September 15, 2005.

VI. Award Administration Information

VI.1. Award Notices

Successful applicants will receive a Notice of Award (NoA) from the HHS/CDC Procurement and Grants Office. The NoA shall be the only binding, authorizing document between the recipient and HHS/CDC. An authorized Grants Management Officer will sign the NoA, and mail it to the recipient fiscal officer identified in the application.

Unsuccessful applicants will receive notification of the results of the application review by mail.

VI.2. Administrative and National Policy Requirements

45 CFR Part 74 and Part 92

For more information on the Code of Federal Regulations, see the National Archives and Records Administration at the following Internet address: http://www.access.gpo.gov/nara/cfr/cfr-table-search.html.

The following additional requirements apply to this project:

• AR-4 HIV/AIDS Confidentiality Provisions

• AR-5 HIV Program Review Panel Requirements

• AR-6 Patient Care

• AR-8 Public Health System Reporting Requirements

• AR-12 Lobbying Restrictions

• AR-14 Accounting System Requirements

• AR-15 Proof of Non-Profit Status

• AR-21 Small, Minority, and Women-Owned Business

• AR-23 States and Faith-Based Organizations

Applicants can find additional information on the requirements on the HHS/CDC Web site at the following Internet address: http://www.cdc.gov/od/pgo/funding/ARs.htm.

You need to include an additional Certifications form from the PHS5161-1 application in the Grants.gov electronic submission only. Please refer to http://www.cdc.gov/od/pgo/funding/PHS5161-1-Certificates.pdf. Once you have has filled out the form, please attach it to the Grants.gov submission as Other Attachments Form.

VI.3. Reporting Requirements

You must provide HHS/CDC with an original, plus two hard copies of the following reports:

1. Interim progress report, due no less than 90 days before the end of the budget period. The progress report will serve as your non-competing continuation application, and must contain the following elements:

a. Current Budget Period Activities Objectives.

b. Current Budget Period Financial Progress.

c. New Budget Period Program Proposed Activity Objectives.

d. Budget.

e. Measures of Effectiveness, including progress against the numerical goals of the President's Emergency Plan for AIDS Relief for Rwanda.

f. Additional Requested Information.

2. Annual progress report, due 60 days after the end of the budget period. The progress report will follow the format developed jointly by the U.S. Government and the Government of Rwanda, consisting of interventions, milestones, timelines, status explanations and budget expenditures to date.

3. Financial status report, no more than 90 days after the end of the budget period.

4. Final financial and performance reports, no more than 90 days after the end of the project period.

Recipients must mail these reports to the Grants Management or Contract Specialist listed in the “Agency Contacts” section of this announcement.

VII. Agency Contacts

We encourage inquiries concerning this announcement.

For general questions, contact: Technical Information Management Section, CDC Procurement and Grants Office, U.S. Department of Health and Human Services, 2920 Brandywine Road, Atlanta, GA 30341, Telephone: 770-488-2700.

For program technical assistance, contact: Valerie Koscelnik, Project Officer, National Center for HIV, STD, and TB Prevention, Address: HHS/CDC/US Embassy, Kigali, Rwanda, Telephone: +250 08303986, E-mail: vak7@cdc.gov.

For financial, grants management, or budget assistance, contact: Shirley Wynn, Grants Management Specialist, CDC Procurement and Grants Office, U.S. Department of Health and Human Services, 2920 Brandywine Road, Atlanta, GA 30341, Telephone: 770-488-1515, E-mail: swynn@cdc.gov.

VIII. Other Information

Applicants can find this and other HHS funding opportunity announcements on the HHS/CDC web site, Internet address: http://www.cdc.gov (Click on “Funding,” then “Grants and Cooperative Agreements”), and on the HHS Office of Global Health Affairs, Internet address: http://www.globalhealth.gov.

Dated: August 11, 2005.
William P. Nichols,
Director, Procurement and Grants Office Centers for Disease Control and Prevention, U.S. Department of Health and Human Services.

[FR Doc. 05-16358 Filed 8-17-05; 8:45 am]

BILLING CODE 4163-18-P